DEPARTMENT OF COMMERCE

Foreign-Trade Zones Board

[B-52-2020]

Foreign-Trade Zone (FTZ) 38—Spartanburg County, South Carolina; Application for Production Authority; Teijin Carbon Fibers, Inc.; (Polyacrylonitrile-based Carbon Fiber); Invitation for Public Comment

In response to a request from Hexcel Corporation, the FTZ Board is inviting public comment on the rebuttal submission of Teijin Carbon Fibers, Inc. (TCF) (dated July 1, 2021) pursuant to 15 CFR 400.32(c)(2). The rebuttal submission was presented in the context of the FTZ Board's consideration of the pending application, as amended, requesting certain authority for TCF to produce polyacrylonitrile-based carbon fiber at its facility in Greenwood, South Carolina. In response to this invitation for public comment, parties may also address argument or evidence presented in the application and in other parties' direct and rebuttal comment submissions in earlier comment periods in this proceeding.¹ The application and parties' submissions may be viewed in the Online FTZ Information System on the FTZ Board's website (accessible via www.trade.gov/ftz).

¹ 85 FR 49359, August 13, 2020; 85 FR 81875, December 17, 2020; 86 FR 23672, May 4, 2021.

Public comment is invited from interested parties. The closing period for their receipt is August 18, 2021. Rebuttal comments in response to material submitted during the foregoing period may be submitted during the subsequent 15-day period to September 2, 2021. Submissions shall be addressed to the Board's Executive Secretary and sent to: ftz@trade.gov.

For further information, contact Diane Finver at Diane.Finver@trade.gov or (202) 482-1367.

Dated: July 14, 2021.
Andrew McGilvray,
Executive Secretary.

[FR Doc. 2021-15266 Filed 7-16-21; 8:45 am]

BILLING CODE 3510-DS-P